COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

SUMMARY: The Committee for the Implementation of Textile Agreements (“CITA”) has determined that certain double-knit jacquard fabric, as specified below, is not available in commercial quantities in a timely manner in the CAFTA-DR countries. The product is added to the list in Annex 3.25 of the CAFTA-DR in unrestricted quantities.

DATES: Applicable Date: April 25, 2024.

FOR FURTHER INFORMATION CONTACT: Laurie Mease, Office of Textiles and Apparel, U.S. Department of Commerce, 202-482-2043 or Laurie.Mease@trade.gov.

For Further Information Online: https://otexaprod.trade.gov/otexacapublicsite/requests/cafta under “Approved Requests,” File Number: CA2024001.

SUPPLEMENTARY INFORMATION:

Authority: The CAFTA-DR; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of the CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's Procedures”).

On March 14, 2024, CITA received a Commercial Availability Request (“Request”) from Lacoste for certain double-knit jacquard fabric, as specified below. On March 18, in accordance with CITA's Procedures, CITA notified interested parties of the Request, which was posted on the dedicated website for CAFTA-DR Commercial Availability proceedings. In its notification, CITA advised that any Response with an Offer to Supply (“Response”) must be submitted by March 28, and any Rebuttal to a Response (“Rebuttal”) must be submitted by April 3, in accordance with sections 6 and 7 of CITA's Procedures.

No interested entity submitted a Response to the Request advising CITA of its objection to the Request with an offer to supply the subject product.

In accordance with section 203(o)(4)(C) of the CAFTA-DR Implementation Act, and section 8(c)(2) of CITA's Procedures, as no interested entity submitted a Response objecting to the Request and providing an offer to supply the subject product, CITA has determined to add the specified fabric to the list in Annex 3.25 of the CAFTA-DR.

The subject product has been added to the list in Annex 3.25 of the CAFTA-DR Agreement in unrestricted quantities. A revised list has been posted on the dedicated website for CAFTA-DR Commercial Availability proceedings, at https://otexaprod.trade.gov/otexacapublicsite/shortsupply/cafta.

Specifications: Certain Double-Knit Jacquard Fabric

HTS: 6006.33

Fabric Type: Polyester/Cotton/Nylon Double Face Jacquard Knitted Fabric

Fiber Content: 55% to 65% Polyester/30% to 40% Cotton/3% to 6% Nylon

Yarn Size:

Face: 100% Polyester Filament yarn 100 to 200 Denier

Tie: 100% Nylon 10 to 40 Denier

Back: 100% Cotton 20/1 to 34/1

Fabric Weight:

Metric: 200-340 GM2

English: 5.8-10.03 ounces per square yard

Weave Type: Double Knit Jacquard

Fabric Width:

Metric: 152-195 cm

English: 59.8-76.8 inches

Finish: Yarn Dye of Various Color

Remarks: The yarn size designations describe a range of yarn specifications for yarn before knitting, dyeing and finishing of the fabric. They are intended as specifications to be followed by the mills in sourcing yarn used to produce the fabric. Dyeing, finishing, and knitting can alter the characteristic of the yarn as it appears in the finished fabric. This specification therefore includes yarns appearing in the finished fabric as finer or coarser than the designated yarn sizes provided that the variation occurs after processing of the greige yarn and production of the fabric. The specifications for the fabric apply to the fabric itself prior to cutting and sewing of the finished garment. Such processing may alter the measurements.

Jennifer Knight,
Chairman, Committee for the Implementation of Textile Agreements.

[FR Doc. 2024-08790 Filed 4-24-24; 8:45 am]

BILLING CODE 3510-DR-P